ENVIRONMENTAL PROTECTION AGENCY

40 CFR Part 52

[EPA-R09-OAR-2007-0165; FRL-8323-9]

Approval and Promulgation of Implementation Plans; Revisions to the Nevada State Implementation Plan; Stationary Source Permits

AGENCY: Environmental Protection Agency (EPA).

ACTION: Proposed rule; extension of comment period.

SUMMARY: On April 17, 2007 (72 FR 19144), EPA proposed certain approvals and certain disapprovals of revisions to the Nevada State Implementation Plan (SIP) submitted to EPA by the Nevada Division of Environmental Protection. These revisions involve State rules governing applications for, and issuance of, permits for stationary sources, but not including review and permitting of major sources and major modifications under parts C and D of title I of the Clean Air Act. EPA is extending the comment period to August 17, 2007.

DATES: Any comments on this proposal must arrive by August 17, 2007.

ADDRESSES: Submit comments, identified by docket number EPA-R09-OAR-2007-0165, by one of the following methods:

1. Federal eRulemaking Portal: www.regulations.gov. Follow the on-line instructions.

2. E-mail: rios.gerardo@epa.gov.

3. Mail or deliver: Gerardo Rios (Air-3), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or e-mail. www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Laura Yannayon, EPA Region IX, (415) 972-3534, Yannayon.Laura@epa.gov.

SUPPLEMENTARY INFORMATION: On April 17, 2007, EPA proposed, under the Clean Air Act, approval of certain revisions to the applicable state implementation plan for the State of Nevada and disapproval of certain other revisions. These revisions involve State rules governing applications for, and issuance of, permits for stationary sources, but not including review and permitting of major sources and major modifications under parts C and D of title I of the Clean Air Act. These revisions involve submittal of certain new or amended State rules and requests by the State for rescission of certain existing rules from the state implementation plan. The proposed rule divides the SIP revisions into three categories: (1) Separable permit-related rules for which EPA has proposed action on a rule-by-rule basis; (2) submitted rules that comprise the bulk of the permitting program for which EPA has proposed disapproval as a whole; and (3) existing SIP rules for which NDEP has requested rescission and for which EPA has proposed action on a rule-by-rule basis. See tables 1, 2 and 3 in the proposed rule at 72 FR 19144, at 19146-19149 for the lists of affected rules.

The proposed action provided a 60-day public comment period. In response to a request from Leo M. Drozdoff, P.E., Administrator, Nevada Division of Environmental Protection, submitted by letter on May 7, 2007, EPA is extending the comment period for an additional 60 days.

Dated: May 29, 2007.
Wayne Nastri,
Regional Administrator, Region IX.

[FR Doc. E7-11109 Filed 6-7-07; 8:45 am]

BILLING CODE 6560-50-P